U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

Name: Larry M. Wortzel, Chairman of the U.S.-China Economic and Security Review Commission.

The Commission is mandated by Congress to investigate, assess, evaluate and report to Congress annually on “regional economic and security impacts.” The mandate specifically charges the Commission to evaluate “The triangular economic and security relationship among the United States, Taipei and the People's Republic of China (including the military modernization and force deployments of the People's Republic of China aimed at Taipei).” Pursuant to this mandate, the Commission will be holding a public hearing in Washington, DC on March 16-17, 2006.

Background

This event is the third in a series of public hearings the Commission will hold during its 2006 report cycle to collect input from leading experts in academia, business, industry, government and the public on the impact of the economic and national security implications of the U.S. growing bilateral trade and economic relationship with China. The March 16-17 hearing is being conducted to obtain commentary about issues connected to China's military modernization efforts and export control issues. Information on upcoming hearings, as well as transcripts of past Commission hearings, can be obtained from the USCC Web site http://www.uscc.gov.

The March 16 hearing will address “China's Military Modernization” and will be Co-chaired by Vice Chairman Carolyn Bartholomew and Commissioner Thomas Donnelly. The March 17 hearing will address “Export Control Issues” and will be Co-chaired by Commissioners Fred Thompson and William A. Reinsch.

Purpose of Hearing

The hearing is designed to assist the Commission in fulfilling its mandate by identifying and assessing the key military modernization efforts being undertaken by China, evaluating the modernization of China's defense industries, assessing the quality and quantity of military assistance China is receiving from foreign sources, and reviewing and evaluating the efficacy of U.S. and European export controls on the transfer of military equipment and dual-use technologies to China. Invited witnesses include congressional members, administration officials, and U.S. industry representatives.

Copies of the hearing agenda will be made available on the Commission's Web site http://www.uscc.gov. Any interested party may file a written statement by March 17, 2006, by mailing to the contact below.

Date and Time: Thursday, March 16, 2006, 8:30 a.m. to 4 pm, and Friday, March 17, 2006, 8:30 a.m. to Noon Eastern Standard Time. A detailed agenda for the hearing will be posted to the Commission's Web site at http://www.uscc.gov in the near future.

ADDRESSES: The hearing will be held on Capitol Hill (the exact location will be announced soon). Public seating is limited to about 50 people on a first come, first served basis. Advance reservations are not required.

FOR FURTHER INFORMATION CONTACT: Any member of the public wishing further information concerning the hearing should contact Kathy Michels, Associate Director for the U.S.-China Economic and Security Review Commission, 444 North Capitol Street, NW., Suite 602, Washington, DC 20001; phone 202-624-1409, or via e-mail at kmichels@uscc.gov.

Authority: Congress created the U.S.-China Economic and Security Review Commission in 2000 in the National Defense Authorization Act (Pub. L. 106-398 as amended by Division P of the Consolidated Appropriations Resolution, 2003 (Pub. L. 108-7), as amended by Public Law 109-108 (November 22, 2005).

Dated: February 22, 2006.
Kathleen J. Michels,
Associate Director, U.S.-China Economic and Security Review Commission.

[FR Doc. E6-2758 Filed 2-27-06; 8:45 am]

BILLING CODE 1137-00-P